FEDERAL HOUSING FINANCE AGENCY

[No. 2010-N-15]

Federal Home Loan Bank Members Selected for Community Support Review

AGENCY: Federal Housing Finance Agency.

ACTION: Notice.

SUMMARY: The Federal Housing Finance Agency (FHFA) is announcing the Federal Home Loan Bank (Bank) members it has selected for the 2010 first round review cycle under the FHFA's community support requirements regulation. This notice also prescribes the deadline by which Bank members selected for review must submit Community Support Statements to FHFA.

DATES: Bank members selected for the review cycle under the FHFA's community support requirements regulation must submit completed Community Support Statements to FHFA on or before December 6, 2010.

ADDRESSES: Bank members selected for the 2010 first round review cycle under the FHFA's community support requirements regulation must submit completed Community Support Statements to FHFA either by hard-copy mail at the Federal Housing Finance Agency, Housing Mission and Goals, 1625 Eye Street, NW., Washington, DC 20006, or by electronic mail at hmgcommunitysupportprogram@fhfa.gov.

FOR FURTHER INFORMATION CONTACT: Rona Richardson, Office Assistant, Housing Mission and Goals, Federal Housing Finance Agency, by telephone at 202-408-2945, by electronic mail at Rona.Richardson@FHFA.gov, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the December 6, 2010 deadline prescribed in this notice. 12 CFR 1290.2(b)(1)(ii) and (c). On or before November 5, 2010, each Bank will notify the members in its district that have been selected for the 2010 first round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 first round community support review cycle:

Federal Home Loan Bank of Boston—District 1
New England Bank | Enfield | Connecticut.
Litchfield Bancorp | Litchfield | Connecticut.
Milford Bank | Milford | Connecticut.
PrimeBank | Orange | Connecticut.
The National Iron Bank | Salisbury | Connecticut.
Mechanics Savings Bank | Auburn | Maine.
Oxford Federal Credit Union | Mexico | Maine.
Adams Co-operative Bank | Adams | Massachusetts.
Beverly Co-operative | Beverly | Massachusetts.
Wainwright Bank & Trust | Boston | Massachusetts.
Chelsea-Provident Co-operative Bank | Chelsea | Massachusetts.
East Boston SB | East Boston | Massachusetts.
Fall River Five Cent | Fall River | Massachusetts.
The First National Bank of Ipswich | Ipswich | Massachusetts.
Century Bank & Trust Company | Medford | Massachusetts.
Needham Bank | Needham | Massachusetts.
Hoosac Bank | North Adams | Massachusetts.
North Brookfield Savings Bank | North Brookfield | Massachusetts.
Bank of Easton, A Co-operative Bank | North Easton | Massachusetts.
Cape Cod Five Cents Savings Bank | Harwich Port | Massachusetts.
Rockland Trust Company | Rockland | Maine.
UniBank for Savings | Whitinsville | Massachusetts.
Williamstown Savings Bank | Williamstown | Massachusetts.
St. Mary's Bank | Manchester | New Hampshire.
Community Guaranty Savings Bank | Plymouth | New Hampshire.
Bank Rhode Island | Providence | Rhode Island.
Union Federal Savings Bank | North Providence | Rhode Island.
Federal Home Loan Bank of New York—District 2
Provident Bank | Jersey City | New Jersey.
Atlantic Stewardship Bank | Midland Park | New Jersey.
City National Bank of New Jersey | Newark | New Jersey.
First Niagara Bank, National Association | Buffalo | New York.
Chemung Canal Trust Company | Elmira | New York.
National Bank of New York City | Flushing | New York.
Rondout Savings Bank | Kingston | New York.
State Bank of Long Island | New Hyde Park | New York.
Eastbank, National Association | New York City | New York.
Rhinebeck Savings Bank | Rhinebeck | New York.
Tioga State Bank | Spencer | New York.
New York Community Bank | Westbury | New York.
Banco Santander Puerto Rico | Hato Rey | Puerto Rico.
Federal Home Loan Bank of Pittsburgh—District 3
County Bank | Rehoboth Beach | Delaware.
Chelten Hills Savings Bank | Abington | Pennsylvania.
The Kishacoquillas Valley NB | Belleville | Pennsylvania.
Firs Trust Bank | Conshohocken | Pennsylvania.
The Farmers National Bank of Emlenton | Emlenton | Pennsylvania.
First National Bank of Pennsylvania | Hermitage | Pennsylvania.
Wayne Bank | Honesdale | Pennsylvania.
AmeriServ Financial Bank | Johnstown | Pennsylvania.
Luzerne Bank | Luzerne | Pennsylvania.
Marion Center Bank | Marion Center | Pennsylvania.
The First National Bank of Port Allegany | Port Allegany | Pennsylvania.
Community First Bank | Reynoldsville | Pennsylvania.
Farmers Building and Savings Bank | Rochester | Pennsylvania.
Mountain Valley Bank, NA | Elkins | West Virginia.
The Harrison County Bank | Lost Creek | West Virginia.
Union Bank, Inc. | Middlebourne | West Virginia.
Grant County Bank | Petersburg | West Virginia.
Federal Home Loan Bank of Atlanta—District 4
Peoples Bank of Greensboro | Greensboro | Alabama.
Cheaha Bank | Oxford | Alabama.
THE COMMERCIAL BANK OF OZARK | Ozark | Alabama.
Metro Bank | Pell City | Alabama.
Alabama Trust Bank, National Association | Sylacauga | Alabama.
The Farmers & Merchants Bank | Waterloo | Alabama.
The Citizens Bank of Winfield | Winfield | Alabama.
Adams National Bank | Washington | District of Columbia.
Drummond Community Bank | Chiefland | Florida.
The Bank of Miami, N.A. | Coral Gables | Florida.
First National Bank of Pasco | Dade City | Florida.
BankFIRST | Eustis | Florida.
Community Bank of Florida, Inc. | Homestead | Florida.
Fidelity Bank of Florida | Merritt Island | Florida.
Coconut Grove Bank | Miami | Florida.
Peoples National Bank | Niceville | Florida.
Security Bank, National Association | North Lauderdale | Florida.
Enterprise Bank of Florida | North Palm Beach | Florida.
Prosperity Bank | St. Augustine | Florida.
Premier Bank | Tallahassee | Florida.
First National Bank of Wauchula | Wauchula | Florida.
Alma Exchange Bank and Trust | Alma | Georgia.
First National Bank South | Alma | Georgia.
Citizens Bank of Americus | Americus | Georgia.
Rabun County Bank | Clayton | Georgia.
Bank of Dudley | Dudley | Georgia.
First National Bank of Griffin | Griffin | Georgia.
McIntosh State Bank | Jackson | Georgia.
Queensborough National Bank & Trust Company | Louisville | Georgia.
Bank of Madison | Madison | Georgia.
Exchange Bank | Milledgeville | Georgia.
Ameris Bank | Moultrie | Georgia.
Fidelity Bank | Norcross | Georgia.
Bryan Bank and Trust | Richmond Hill | Georgia.
Northwest Georgia Bank | Ringgold | Georgia.
West Central Georgia Bank | Thomaston | Georgia.
Carrollton Bank | Baltimore | Maryland.
Frederick County Bank | Frederick | Maryland.
Glen Burnie Mutual Savings Bank | Glen Burnie | Maryland.
Hebron Savings Bank | Hebron | Maryland.
First Financial of Maryland Federal Credit Union | Lutherville | Maryland.
Regal Bank & Trust | Owings Mills | Maryland.
The Queenstown Bank of Maryland | Queenstown | Maryland.
Blue Ridge Savings Bank, Inc. | Asheville | North Carolina.
Yadkin Valley Bank and Trust Company | Elkin | North Carolina.
The Fidelity Bank | Fuquay-varina | North Carolina.
Bank of Granite | Granite Falls | North Carolina.
Sound Banking Company | Morehead City | North Carolina.
Morganton Federal Savings & Loan Association | Morganton | North Carolina.
Peoples Bank | Newton | North Carolina.
First Carolina State Bank | Rocky Mount | North Carolina.
Wake Forest Federal Savings & Loan Association | Wake Forest | North Carolina.
First Federal Savings & Loan Association | Charleston | South Carolina.
Horry County State Bank | Loris | South Carolina.
Crescent Bank | Myrtle Beach | South Carolina.
Virginia National Bank | Charlottesville | Virginia.
Bank of Hampton Roads | Chesapeake | Virginia.
The Old Point National Bank of Phoebus | Hampton | Virginia.
Grayson National Bank | Independence | Virginia.
Chesapeake Bank | Kilmarnock | Virginia.
Village Bank | Midlothian | Virginia.
BayPort Credit Union | Newport News | Virginia.
Central Virginia Bank | Powhatan | Virginia.
Federal Home Loan Bank of Cincinnati—District 5
Citizens Deposit Bank of Arlington, Inc. | Arlington | Kentucky.
Peoples Bank and Trust Company of Madison Co | Berea | Kentucky.
Deposit Bank of Carlisle | Carlisle | Kentucky.
The Farmers National Bank of Danville | Danville | Kentucky.
Dixon Bank | Dixon | Kentucky.
First Citizens Bank | Elizabethtown | Kentucky.
Fort Knox Federal Credit Union | Fort Knox | Kentucky.
Farmers Bank and Capital Trust | Frankfort | Kentucky.
Franklin Bank and Trust Company | Franklin | Kentucky.
The Bank of Henderson, Inc. | Henderson | Kentucky.
Century Bank of Kentucky | Lawrenceburg | Kentucky.
Kentucky Telco Federal Credit Union | Louisville | Kentucky.
King Southern Bank | Louisville | Kentucky.
Jackson County Bank | McKee | Kentucky.
The Farmers Bank of Milton | Milton | Kentucky.
Peoples Bank & Trust | Owenton | Kentucky.
The Springfield State Bank | Springfield | Kentucky.
South Central Bank of Monroe County, Inc. | Tompkinsville | Kentucky.
United Southern Bank | Trenton | Kentucky.
Citizens Deposit Bank & Trust | Vanceburg | Kentucky.
The Apple Creek Banking CO | Apple Creek | Ohio.
Sharefax Credit Union, Inc. | Batavia | Ohio.
The First National Bank of Bellevue | Bellevue | Ohio.
Monitor Bank | Big Prairie | Ohio.
Cottage Savings Bank | Cincinnati | Ohio.
The Huntington National Bank | Columbus | Ohio.
The Community Bank | Crooksville | Ohio.
Citizens National Bank of Southwestern Ohio | Dayton | Ohio.
Dover-phyla Federal Credit Union | Dover | Ohio.
First National Community Bank | East Liverpool | Ohio.
The Bankers Guarantee Title & Trust Company | Fairlawn | Ohio.
The Peoples Bank Inc | Gambier | Ohio.
The Genoa Banking Company | Genoa | Ohio.
Metamora State Bank | Metamora | Ohio.
Consumers National Bank | Minerva | Ohio.
The Henry County Bank | Napoleon | Ohio.
Home FS & LA of Niles | Niles | Ohio.
Community One Credit Union of Ohio | North Canton | Ohio.
The Osgood State Bank | Osgood | Ohio.
The Ottoville Bank Company | Ottoville | Ohio.
Westfield Bank, FSB | Westfield Center | Ohio.
Bank of Cleveland | Cleveland | Tennessee.
Citizens Tri-County Bank | Dunlap | Tennessee.
Citizens Bank | Elizabethton | Tennessee.
Andrew Johnson Bank | Greeneville | Tennessee.
Farmers Bank | Parsons | Tennessee.
First National Bank of Pulaski | Pulaski | Tennessee.
First Century Bank | Tazewell | Tennessee.
Federal Home Loan Bank of Indianapolis—District 6
The Bath State Bank | Bath | Indiana.
First Bank of Berne | Berne | Indiana.
The Bippus State Bank | Bippus | Indiana.
Monroe County Bank | Bloomington | Indiana.
The Farmers and Merchants Bank | Boswell | Indiana.
The Farmers State Bank—Brookston | Brookston | Indiana.
The Fountain Trust Company | Covington | Indiana.
DeMotte State Bank | Demotte | Indiana.
The Peoples State Bank—Ellettsville | Ellettsville | Indiana.
Integra Bank National Association | Evansville | Indiana.
Bank of Geneva | Geneva | Indiana.
MainSource Bank | Greensburg | Indiana.
Salin Bank and Trust Company | Indianapolis | Indiana.
The National Bank of Indianapolis | Indianapolis | Indiana.
Kentland Bank | Kentland | Indiana.
Community State Bank | Royal Center | Indiana.
The Morris Plan CO of Terre Haute | Terre Haute | Indiana.
Lake City Bank | Warsaw | Indiana.
Community State Bank | Avila | Indiana.
Alden State Bank | Alden | Michigan.
Midwest Financial Credit Union | Ann Arbor | Michigan.
First National Bank of Michigan | East Lansing | Michigan.
The State Bank—Fenton | Fenton | Michigan.
Dort Federal Credit Union | Flint | Michigan.
First Bank, Upper Michigan | Gladstone | Michigan.
United Bank of Michigan | Grand Rapids | Michigan.
Lansing Automakers Federal Credit Union | Lansing | Michigan.
Farmers State Bank of Munith | Munith | Michigan.
Royal Oak Community Credit Union | Royal Oak | Michigan.
Federal Home Loan Bank of Chicago—District 7
Anchor State Bank | Anchor | Illinois.
Germantown Trust & Savings Bank | Breese | Illinois.
The Bank of Carbondale | Carbondale | Illinois.
Highland Community Bank | Chicago | Illinois.
Home State Bank, National Association | Crystal Lake | Illinois.
Farmers State Bank of Danforth | Danforth | Illinois.
Durand State Bank | Durand | Illinois.
First Community Bank | Elgin | Illinois.
Standard Bank and Trust Company | Evergreen Park | Illinois.
First Eagle Bank | Hanover Park | Illinois.
Bank of Calhoun County | Hardin | Illinois.
The First National Bank of Lacon | Lacon | Illinois.
The Farmers Bank of Liberty | Liberty | Illinois.
Banterra Bank | Marion | Illinois.
Maroa Forsyth Community Bank | Maroa | Illinois.
First Mid-Illinois Bank & Trust, N.A. | Mattoon | Illinois.
First State Bank | Mendota | Illinois.
Citizens State Bank Of Milford | Milford | Illinois.
BankOrion | Orion | Illinois.
The Citizens National Bank of Paris | Paris | Illinois.
South Side Trust & Savings Bank of Peoria | Peoria | Illinois.
Bank of Pontiac | Pontiac | Illinois.
Princeville State Bank | Princeville | Illinois.
The Farmers National Bank of Prophet | Prophetstown | Illinois.
Marion County Savings Bank | Salem | Illinois.
Bank of Springfield | Springfield | Illinois.
St. Charles Bank and Trust | St. Charles | Illinois.
First Community State Bank | Staunton | Illinois.
First National Bank in Taylorville | Taylorville | Illinois.
First National Bank of Waterloo | Waterloo | Illinois.
Williamsville State Bank & Trust | Williamsville | Illinois.
The Baraboo National Bank | Baraboo | Wisconsin.
Union Bank of Blair | Blair | Wisconsin.
Great Midwest Bank, S.S.B. | Brookfield | Wisconsin.
Bank North | Crivitz | Wisconsin.
First National Bank of Eagle River | Eagle River | Wisconsin.
Citizens Community Federal | Eau Claire | Wisconsin.
Royal Bank | Elroy | Wisconsin.
Oak Bank | Fitchburg | Wisconsin.
State Bank Of Florence | Florence | Wisconsin.
Bank of Galesville | Galesville | Wisconsin.
First National Bank of Hartford | Hartford | Wisconsin.
Bank of Wisconsin | Kenosha | Wisconsin.
Coulee Bank | La Crosse | Wisconsin.
Citizens State Bank of Loyal | Loyal | Wisconsin.
Bank of Luxemburg | Luxemburg | Wisconsin.
First Business Bank | Madison | Wisconsin.
Columbia Savings and Loan Association | Milwaukee | Wisconsin.
Citizens Bank of Mukwonago | Mukwonago | Wisconsin.
First State Bank | New London | Wisconsin.
First Bank Financial Centre | Oconomowoc | Wisconsin.
River Valley State Bank | Rothschild | Wisconsin.
River Bank | Stoddard | Wisconsin.
Waldo State Bank | Waldo | Wisconsin.
Farmers & Merchants State Bank | Waterloo | Wisconsin.
Waukesha State Bank | Waukesha | Wisconsin.
Marathon Savings Bank | Wausau | Wisconsin.
John O. Melby & Co. Bank | Whitehall | Wisconsin.
Chippewa Valley Bank | Winter | Wisconsin.
Woodford State Bank | Woodford | Wisconsin.
Federal Home Loan Bank of Des Moines—District 8
City State Bank | Central City | Iowa.
Iowa State Bank, Des Moines, Iowa | Des Moines | Iowa.
Peoples Savings Bank | Elma | Iowa.
Lee County Bank & Trust, N.A. | Fort Madison | Iowa.
Grinnell State Bank | Grinnell | Iowa.
Security State Bank | Independence | Iowa.
Community First Bank | Keosauqua | Iowa.
Pleasantville State Bank | Pleasantville | Iowa.
Northeast Security Bank | Sumner | Iowa.
Farmers & Merchants Savings Bank | Waukon | Iowa.
Earlham Savings Bank | West Des Moines | Iowa.
Liberty Bank, FSB | West Des Moines | Iowa.
Midwest Heritage Bank, F.S.B. | West Des Moines | Iowa.
First Trust and Savings Bank | Wheatland | Iowa.
North American State Bank | Belgrade | Minnesota.
Bremer Bank, National Association | Brainerd | Minnesota.
First Security Bank—Canby | Canby | Minnesota.
Republic Bank, Inc. | Duluth | Minnesota.
Beacon Bank | Shorewood | Minnesota.
Bremer Bank, National Association | International Falls | Minnesota.
Security State Bank of Lewiston | Lewiston | Minnesota.
Minnwest Bank Luverne | Luverne | Minnesota.
Security State Bank of Marine | Marine on St. Croix | Minnesota.
Franklin National Bank of Minneapolis | Minneapolis | Minnesota.
First Minnetonka City Bank | Minnetonka | Minnesota.
Minnwest Bank Central | Montevideo | Minnesota.
Lake Region Bank | New London | Minnesota.
United Community Bank | Perham | Minnesota.
Farmers & Merchants State Bank of Pierz | Pierz | Minnesota.
Pine Island Bank | Pine Island | Minnesota.
First Bank &Trust, National Association | Pipestone | Minnesota.
State Bank of Richmond | Richmond | Minnesota.
Minnesota First Credit and Savings | Rochester | Minnesota.
Pine Country Bank | Little Falls | Minnesota.
Liberty Savings Bank, FSB | Saint Cloud | Minnesota.
Capital Bank | Saint Paul | Minnesota.
Bremer Bank, National Association | South St. Paul | Minnesota.
Farmers & Merchants State Bank of Springfield | Springfield | Minnesota.
Central Bank | Stillwater | Minnesota.
Northern State Bank | Thief River Falls | Minnesota.
Community Bank Mankato | Vernon Center | Minnesota.
Paragon Bank | Wells | Minnesota.
State Bank of Wheaton | Wheaton | Minnesota.
Bremer Bank, National Association | Willmar | Minnesota.
Winona National Bank | Winona | Minnesota.
Bank of Advance | Advance | Missouri.
First Community Bank, Missouri | Poplar Bluff | Missouri.
Carroll County Savings & Loan Association | Carrollton | Missouri.
Enterprise Bank and Trust | Clayton | Missouri.
First Midwest Bank of Dexter | Dexter | Missouri.
F&C Bank | Holden | Missouri.
Midwest Independent Bank | Jefferson City | Missouri.
Bank Midwest, National Association | Kansas City | Missouri.
Union Bank | Kansas City | Missouri.
First Community Bank | Lee's Summit | Missouri.
Alliant Bank | Madison | Missouri.
Citizens National Bank of Greater St. Louis | Maplewood | Missouri.
Martinsburg Bank and Trust | Mexico | Missouri.
Central Bank of Lake of the Ozarks | Osage Beach | Missouri.
First Midwest Bank of Poplar Bluff | Poplar Bluff | Missouri.
Preferred Bank | Rothville | Missouri.
Anheuser-Busch Employees' Credit Union | St. Louis | Missouri.
Jefferson Bank & Trust Co. | St. Louis | Missouri.
Neighbors Credit Union | St. Louis | Missouri.
First Community National Bank | Steelville | Missouri.
Bank of Sullivan | Sullivan | Missouri.
Bank of Crocker | Waynesville | Missouri.
West Plains Bank and Trust Company | West Plains | Missouri.
Bank of Weston | Weston | Missouri.
Bank of North Dakota | Bismarck | North Dakota.
American Bank Center | Dickinson | North Dakota.
Choice Financial Group | Grafton | North Dakota.
Security First Bank of North Dakota | New Salem | North Dakota.
American State Bank & Trust Company of Williston | Williston | North Dakota.
First National Bank | Fort Pierre | South Dakota.
The First National Bank in Sioux Falls | Sioux Falls | South Dakota.
Federal Home Loan Bank of Dallas—District 9
The First National Bank of Berryville | Berryville | Arkansas.
FNB of Izard County | Calico Rock | Arkansas.
Arkansas County Bank | De Witt | Arkansas.
Bank of England | England | Arkansas.
First National Bank in Green Forest | Green Forest | Arkansas.
Helena National Bank | Helena | Arkansas.
Liberty Bank of Arkansas | Jonesboro | Arkansas.
Bank of Little Rock | Little Rock | Arkansas.
First Community Bank of Eastern Arkansas | Marion | Arkansas.
Commercial Bank and Trust | Monticello | Arkansas.
First National Bank And Trust Co. of Mountain Home | Mountain Home | Arkansas.
Bank of Prescott | Prescott | Arkansas.
Riverside Bank | Sparkman | Arkansas.
First National Bank, Bienville Parish | Arcadia | Louisiana.
Citizens National Bk. of Bossier City | Bossier City | Louisiana.
Guaranty Bank & Trust Company of Delhi | Delhi | Louisiana.
Catahoula-LaSalle Bank | Jonesville | Louisiana.
Progressive National Bank of Desoto Parish | Mansfield | Louisiana.
Bank of Maringuoin | Maringuoin | Louisiana.
Louisiana Corporate Credit Union | Metairie | Louisiana.
Whitney National Bank | New Orleans | Louisiana.
Guaranty Bank & Trust Co. | New Roads | Louisiana.
Tensas State Bank | Newellton | Louisiana.
Patterson State Bank | Patterson | Louisiana.
Iberville Bank | Plaquemine | Louisiana.
Rayne State Bank & Trust Co. | Rayne | Louisiana.
Teche Bank & Trust Co. | St. Martinville | Louisiana.
Bank of Sunset & Trust Co. | Sunset | Louisiana.
Washington State Bank | Washington | Louisiana.
Centric Federal Credit Union | West Monroe | Louisiana.
Community Bank, Coast | Biloxi | Mississippi.
Citizens Bank | Columbia | Mississippi.
Jefferson Bank | Fayette | Mississippi.
First Commercial Bank | Jackson | Mississippi.
Bank of Kilmichael | Kilmichael | Mississippi.
Peoples Bank | Mendenhall | Mississippi.
Bank of Morton | Morton | Mississippi.
Merchants & Planters Bank | Raymond | Mississippi.
Richton Bank & Trust Company | Richton | Mississippi.
First State Bank | Waynesboro | Mississippi.
Main Bank | Albuquerque | New Mexico.
Sunrise Bank of Albuquerque | Albuquerque | New Mexico.
Farmers & Stockmens Bank of Clayton | Clayton | New Mexico.
Valley National Bank | Espanola | New Mexico.
Lea County State Bank | Hobbs | New Mexico.
Bank of the Rio Grande N.A. | Las Cruces | New Mexico.
Western Heritage Bank | Las Cruces | New Mexico.
Bank of the Southwest | Roswell | New Mexico.
City Bank New Mexico | Ruidoso | New Mexico.
Bank of Texas | Austin | Texas.
Ballinger National Bank | Ballinger | Texas.
Bloomburg State Bank | Bloomburg | Texas.
First Bank & Trust-Childress | Childress | Texas.
Southwest Bank | Fort Worth | Texas.
HomeTown Bank, NA | Galveston | Texas.
Gruver State Bank | Gruver | Texas.
Hull State Bank | Hull | Texas.
Industry State Bank | Industry | Texas.
Synergy Bank, S.S.B. | McKinney | Texas.
San Antonio National Bank | Refugio | Texas.
Red River Employees | Texarkana | Texas.
Citizens National Bank of Texas | Waxahachie | Texas.
Vintage Bank | Waxahachie | Texas.
White Oak State Bank | White Oak | Texas.
American Bank of Commerce | Wolfforth | Texas.
Citizens State Bank | Woodville | Texas.
Federal Home Loan Bank of Topeka—District 10
First Southwest Bank | Alamosa | Colorado.
Fitzsimons Federal Credit Union | Aurora | Colorado.
Boulder Municipal Employees FCU | Boulder | Colorado.
Boulder Valley Credit Union | Boulder | Colorado.
Flatirons Bank | Boulder | Colorado.
5Star Bank | Colorado Springs | Colorado.
Firstbank of El Paso County | Colorado Springs | Colorado.
Bank of Denver | Denver | Colorado.
First Western Trust Bank | Denver | Colorado.
FirstBank of Cherry Creek—Denver, CO | Denver | Colorado.
FirstBank of Denver—Denver, CO | Denver | Colorado.
Westerra Credit Union | Denver | Colorado.
Millennium Bank | Edwards | Colorado.
Trust Company of America | Englewood | Colorado.
Farmers State Bank of Fort Morgan | Fort Morgan | Colorado.
Grand Valley Bank | Grand Junction | Colorado.
Bellco First Federal Credit Union—Greenwood | Greenwood Village | Colorado.
First State Bank of Colorado | Hotchkiss | Colorado.
The Colorado B&T of La Junta | La Junta | Colorado.
FirstBank of Colorado—Lakewood, CO | Lakewood | Colorado.
FirstBank of South Jeffco—Littleton, CO | Lakewood | Colorado.
FirstBank of Longmont—Longmont, CO | Longmont | Colorado.
Mile High Banks | Longmont | Colorado.
Citizens Bank of Pagosa Springs—Pagosa Springs | Pagosa Springs | Colorado.
FirstBank of Adams County | Thornton | Colorado.
North Valley Bank | Thornton | Colorado.
First National Bank in Trinidad | Trinidad | Colorado.
Mountain Valley Bank | Walden | Colorado.
First Pioneer National Bank | Wray | Colorado.
Wray State Bank | Wray | Colorado.
Labette Bank | Altamont | Kansas.
Equity Bank, a National Association | Andover | Kansas.
The Union State Bank—Arkansas City, KS | Arkansas City | Kansas.
The Exchange NB & TC of Atchison | Atchison | Kansas.
The Baxter State Bank—Baxter Springs, KS | Baxter Springs | Kansas.
The First National Bank of Beloit | Beloit | Kansas.
First National Bank of Kansas | Burlington | Kansas.
Farmers & Merchants State Bank—Cawker City | Cawker City | Kansas.
The First National Bank of Centralia | Centralia | Kansas.
Union State Bank of Clay Center | Clay Center | Kansas.
Swedish-American State Bank | Courtland | Kansas.
The State Bank of Delphos—Delphos, KS | Delphos | Kansas.
Virus Bank, NA | Derby | Kansas.
First Community Bank | Emporia | Kansas.
The Lyons County State Bank | Emporia | Kansas.
First National Bank in Frankfort | Frankfort | Kansas.
Golden Plains Credit Union | Garden City | Kansas.
The Citizens State Bank—Gridley, KS | Gridley | Kansas.
First National Bank of Harleysville | Harleysville | Kansas.
Citizens State Bank and Trust Co.—Hiawatha | Hiawatha | Kansas.
First Kansas Bank | Hoisington | Kansas.
The First National Bank of Hope | Hope | Kansas.
Citizens State Bank | Hugoton | Kansas.
First National Bank of Hutchinson | Hutchinson | Kansas.
The FNB&T Company | Junction City | Kansas.
Brotherhood Bank & Trust Co.—Kansas City, | Kansas City | Kansas.
Peoples Bank | Lawrence | Kansas.
CrossFirst Bank of Leawood | Leawood | Kansas.
U.S. Central Federal Credit Union | Lenexa | Kansas.
Community Bank (The) | Liberal | Kansas.
The First National Bank of Louisburg | Louisburg | Kansas.
The Lyndon State Bank | Lyndon | Kansas.
Community First National Bank | Manhattan | Kansas.
Landmark National Bank | Manhattan | Kansas.
Peoples State Bank | McDonald | Kansas.
Farmers Alliance Mutual Insurance Company | McPherson | Kansas.
Home State Bank & Trust Company | McPherson | Kansas.
Peoples Bank & Trust Co.—McPherson, KS | McPherson | Kansas.
The First National Bank of Southern Kansas | Mount Hope | Kansas.
First Neodesha Bank—Neodesha, KS | Neodesha | Kansas.
The Kansas State Bank | Ottawa | Kansas.
Cornerstone Bank | Overland Park | Kansas.
Hillcrest Bank—Overland Park, KS | Overland Park | Kansas.
First National Bank | Palco-Hays | Kansas.
Commercial Bank | Parsons | Kansas.
First National Bank And Trust | Phillipsburg | Kansas.
Midwest Community Bank | Plainville | Kansas.
The Exchange State Bank | St. Paul | Kansas.
Towanda State Bank—Towanda, KS | Towanda | Kansas.
Grant County Bank—Ulysses, KS | Ulysses | Kansas.
The Union State Bank—Uniontown, KS | Uniontown | Kansas.
Trego-wakeeney State Bank | Wakeeney | Kansas.
Security State Bank—Wellington, KS | Wellington | Kansas.
Wilson State Bank | Wilson | Kansas.
CornerBank, National Association | Winfield | Kansas.
Battle Creek State Bank—Battle Creek, NE | Battle Creek | Nebraska.
Columbus Bank and Trust Company—Columbus, | Columbus | Nebraska.
The Fremont National B&T Co. | Fremont | Nebraska.
Fullerton National Bank | Fullerton | Nebraska.
Thayer County Bank—Hebron, NE | Hebron | Nebraska.
Union Bank and Trust Company—Lincoln, NE | Lincoln | Nebraska.
The McCook National Bank | McCook | Nebraska.
Adams Bank & Trust—Ogallala, NE | Ogallala | Nebraska.
First Westroads Bank, Inc. | Omaha | Nebraska.
Metro Health Services FCU | Omaha | Nebraska.
Mutual First Federal Credit Union | Omaha | Nebraska.
Omaha State Bank—Omaha, NE | Omaha | Nebraska.
First National Bank in Ord | Ord | Nebraska.
First National Bank | Schuyler | Nebraska.
Stanton State Bank | Stanton | Nebraska.
Farmers & Merchants State Bank—Wayne, NE | Wayne | Nebraska.
First United Bank & Trust Company—Durant, | Durant | Oklahoma.
Central NB&T Company of Enid | Enid | Oklahoma.
Farmers & Merchants NB of Fairview | Fairview | Oklahoma.
Security First National Bank | Hugo | Oklahoma.
First Fidelity Bank, N.A. | Oklahoma City | Oklahoma.
The Pauls Valley National Bank | Pauls Valley | Oklahoma.
First State Bank in Temple—Temple, OK | Temple | Oklahoma.
The First Farmers NB of Waurika | Waurika | Oklahoma.
Federal Home Loan Bank of San Francisco—District 11
Bank of Alameda | Alameda | California.
City National Bank | Los Angeles | California.
First Mountain Bank | Big Bear Lake | California.
Premier Valley Bank | Fresno | California.
The Bank of Hemet | Riverside | California.
Gold Country Bank, N.A. | Marysville | California.
Circle Bank | Novato | California.
Addison Avenue Federal Credit Union | Palo Alto | California.
One West Bank, FSB | Pasadena | California.
Cornerstone Community Bank | Red Bluff | California.
Mechanics Bank | Richmond | California.
Altura Credit Union | Riverside | California.
Bank of Sacramento | Sacramento | California.
Trans Pacific National Bank | San Francisco | California.
Borel Private Bank and Trust Company | San Mateo | California.
Montecito Bank & Trust | Santa Barbara | California.
Santa Clara Valley Bank, N.A. | Santa Paula | California.
Community Bank of San Joaquin | Stockton | California.
Bank of The West | Walnut Creek | California.
Bank of Nevada | Las Vegas | Nevada.
Nevada State Bank | Las Vegas | Nevada.
Federal Home Loan Bank of Seattle—District 12
Bank of Hawaii | Honolulu | Hawaii.
D.L. Evans Bank | Burley | Idaho.
Bank cda | Coeur d'Alene | Idaho.
Citizens Bank & Trust Company | Big Timber | Montana.
First Interstate Bank | Billings | Montana.
Bank of Bridger, National Association | Bridger | Montana.
Teton Banks | Choteau | Montana.
First Security Bank of Deer Lodge | Deer Lodge | Montana.
State Bank & Trust Company | Dillon | Montana.
First Citizens Bank of Polson, NA | Polson | Montana.
Lake County Bank | St. Ignatius | Montana.
Ruby Valley National Bank | Twin Bridges | Montana.
Bank of the Rockies, N.A. | Helena | Montana.
Whitefish Credit Union Association | Whitefish | Montana.
O.S.U. Federal Credit Union | Corvallis | Oregon.
MBank | Gresham | Oregon.
Community Bank | Joseph | Oregon.
Cache Valley Bank | Logan | Utah.
SouthWest Community Federal Credit Union | St. George | Utah.
iQ Credit Union | Vancouver | Washington.
Inland Northwest Bank | Spokane | Washington.
Sound Credit Union | Tacoma | Washington.

II. Public Comments

To encourage the submission of public comments on the community support performance of Bank members, on or before November 5, 2010, each Bank will notify its Advisory Council and nonprofit housing developers, community groups, and other interested parties in its district of the members selected for community support review in the 2010 first round review cycle. 12 CFR 1290.2(b)(2)(ii). In reviewing a member for community support compliance, FHFA will consider any public comments it has received concerning the member. 12 CFR 1290.2(d). To ensure consideration by FHFA, comments concerning the community support performance of members selected for the 2010 first round review cycle must be delivered to FHFA, either by hard-copy mail at the Federal Housing Finance Agency, Housing Mission and Goals, 1625 Eye Street, NW., Washington, DC 20006, or by electronic mail to hmgcommunitysupportprogram@fhfa.gov on or before the December 6, 2010 deadline for submission of Community Support Statements.

Dated: October 12, 2010.
Edward J. DeMarco,
Acting Director, Federal Housing Finance Agency.

[FR Doc. 2010-26776 Filed 10-21-10; 8:45 am]

BILLING CODE 8070-01-P